DEPARTMENT OF THE INTERIOR

Office of Surface Mining Reclamation and Enforcement

Notice of Proposed Information Collection; Request for Comments

AGENCY: Office of Surface Mining Reclamation and Enforcement.

ACTION: Notice and request for comments.

SUMMARY: In compliance with the Paperwork Reduction Act of 1995, the Office of Surface Mining Reclamation and Enforcement (OSM) is announcing its intention to seek renewed approval for the collection of information for permits and permit processing. This information collection will also seek approval to collect permit processing fees approved under OSM regulations.

DATES: Comments on the proposed information collection must be received by December 3, 2012, to be assured of consideration.

ADDRESSES: Comments may be mailed to John A. Trelease, Office of Surface Mining Reclamation and Enforcement, 1951 Constitution Ave. NW., Room 203-SIB, Washington, DC 20240. Comments may also be submitted electronically to jtrelease@osmre.gov.

FOR FURTHER INFORMATION CONTACT: To receive a copy of the information collection request contact John A. Trelease, at (202) 208-2783 or at the email address listed in ADDRESSES.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities [see 5 CFR 1320.8(d)]. This notice identifies an information collection that OSM will be submitting to OMB for extension. This collection is contained in 30 CFR Part 773—Requirements for permits and permit processing. OSM is including in this collection a request for OMB approval to collect processing fees for new permits in Federal program states and on Indian lands codified in 30 CFR 736.25 and 750.25.

OSM has revised burden estimates, where appropriate, to reflect current reporting levels or adjustments based on reestimates of burden or respondents. OSM will request a 3-year term of approval for the information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will be included in OSM's submissions of the information collection requests to OMB.

Before including your address, phone number, email address, or other personal identifying information in your comment, you should be aware that your entire comment—including your personal identifying information—may be made publicly available at any time. While you can ask us in your comment to withhold your personal identifying information from public review, we cannot guarantee that we will be able to do so.

Title: 30 CFR Part 773—Requirements for Permits and Permit Processing.

OMB Control Number: 1029-0115.

Summary: The collection activities for this Part ensure that the public has the opportunity to review permit applications prior to their approval, and that applicants for permanent program permits or their associates who are in violation of the Surface Mining Control and Reclamation Act do not receive surface coal mining permits pending resolution of their violations. This collection request includes the submission of processing fees authorized by 30 CFR 736.25 and 750.25 in Federal program states and on Indian lands, respectively.

Bureau Form Number: None.

Frequency of Collection: Once.

Description of Respondents: Applicants for surface coal mining and reclamation permits and State governments and Indian Tribes.

Total Annual Respondents: 892 coal mining applicants and 24 regulatory authorities.

Total Annual Burden Hours: 38,442.

Total Annual Non-Wage Cost Burden: $85,600.

Dated: September 26, 2012.
Andrew F. DeVito,
Chief Division of Regulatory Support.

[FR Doc. 2012-24233 Filed 10-2-12; 8:45 am]

BILLING CODE 4310-05-M